TENNESSEE VALLEY AUTHORITY

Meeting of the Regional Resource Stewardship Council

AGENCY: Tennessee Valley Authority (TVA).

ACTION: Notice of meeting.

SUMMARY: The TVA Regional Resource Stewardship Council (RRSC) will hold a meeting on Tuesday, September 20, and Wednesday, September 21, 2016, to consider various matters.

The RRSC was established to advise TVA on its natural resource stewardship activities. Notice of this meeting is given under the Federal Advisory Committee Act (FACA), 5 U.S.C. App. 2.

The meeting agenda includes the following:

1. Introductions

2. Updates on Natural Resources and River Management Issues

3. Presentations regarding TVA's Comprehensive Land Planning Process and Seven States Water Partnership

4. Public Comments

5. Council Discussion

The RRSC will hear opinions and views of citizens by providing a public comment session starting at 9:00 a.m. EDT, on Wednesday, September 21, TVA will provide time limits for public comment once registered. Persons wishing to speak are requested to register at the door by 8:00 a.m., EDT, on Wednesday, September 21, and will be called on during the public comment period. Handout materials should be limited to one printed page. Written comments are also invited and may be mailed to the Regional Resource Stewardship Council, Tennessee Valley Authority, 400 West Summit Hill Drive, WT-9 D, Knoxville, Tennessee 37902.

DATES: The public meeting will be held on Tuesday, September 20, from 8:30 a.m. to 11:30 a.m., EDT, and Wednesday, September 21, from 8:00 a.m. to 11:45 a.m., EDT.

ADDRESSES: The meeting will be held at the Holiday Inn World's Fair Park, 525 Henley Street, Knoxville, TN 37902, and will be open to the public. Anyone needing special access or accommodations should let the contact below know at least a week in advance.

FOR FURTHER INFORMATION CONTACT: Barbie Perdue, 400 West Summit Hill Drive, WT-9 D, Knoxville, Tennessee 37902, (865) 632-6113.

Dated: August 17, 2016.
Joseph J. Hoagland,
Vice President, Enterprise Relations & Innovation, Tennessee Valley Authority.

[FR Doc. 2016-20379 Filed 8-24-16; 8:45 am]

BILLING CODE 8120-08-P